DEPARTMENT OF HEALTH AND HUMAN SERVICES

Centers for Disease Control and Prevention

Breast and Cervical Cancer Early Detection and Control Advisory Committee (BCCEDCAC); Correction

Notice is hereby given of a change in the meeting of the Breast and Cervical Cancer Early Detection and Control Advisory Committee (BCCEDCAC); November 30, 2017, 9:00 a.m. to 5:00 p.m. EST and December 1, 2017 9:00 a.m. to 1:00 p.m. EST which was published in the Federal Register on October 12, 2017 Volume 82, Number 196, pages 47526-47527.

The call-in number and passcode should read as follows: Call-in number, 1-800-779-5359; passcode: 9955772.

FOR FURTHER INFORMATION CONTACT: Jameka Reese Blackmon, MBA, CMP, Designated Federal Officer, National Center for Chronic Disease Prevention and Health Promotion, CDC, 4770 Buford Highway NE., Mailstop F76, Atlanta, Georgia 30341-3717, (770) 488-4740; grz4@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-25437 Filed 11-22-17; 8:45 am]

BILLING CODE 4163-18-P